DEPARTMENT OF TRANSPORTATION

Office of the Secretary

Notice of Applications for Certificates of Public Convenience and Necessity and Foreign Air Carrier Permits Filed Under Subpart B (Formerly Subpart Q) During the Week Ending July 28, 2010

The following Applications for Certificates of Public Convenience and Necessity and Foreign Air Carrier Permits were filed under subpart B (formerly subpart Q) of the Department of Transportation's Procedural Regulations (See 14 CFR 301.201 et seq.).

The due date for Answers, Conforming Applications, or Motions to Modify Scope are set forth below for each application. Following the Answer period DOT may process the application by expedited procedures. Such procedures may consist of the adoption of a show-cause order, a tentative order, or in appropriate cases a final order without further proceedings.

Docket Number: DOT-OST-2010-0190.

Date Filed: July 28, 2010.

Due Date for Answers, Conforming Applications, or Motion to Modify Scope: August 18, 2010.

Description: Application of Aviation Services, Ltd. (d/b/a Freedom Air (Guam)) (“Freedom Air”) requesting a certificate of public convenience and necessity authorizing Freedom Air to engage in interstate scheduled air transportation of persons, property and mail.

Renee V. Wright,
Program Manager, Docket Operations, Federal Register Liaison.

[FR Doc. 2010-19761 Filed 8-10-10; 8:45 am]

BILLING CODE 4910-9X-P